DEPARTMENT OF HOMELAND SECURITY

Coast Guard

33 CFR Part 147

[Docket Number USCG-2013-0070]

RIN 1625-AA00

Safety Zone; Olympus Tension Leg Platform

AGENCY: Coast Guard, DHS.

ACTION: Final rule.

SUMMARY: The Coast Guard is establishing a safety zone around the Olympus Tension Leg Platform, Mississippi Canyon Block 807 on the OCS. The purpose of the safety zone is to promote the safety of life and property on the facilities, their appurtenances and attending vessels, and on the adjacent waters within the safety zone. Placing a safety zone around the facility will significantly reduce the threat of allisions, oil spills, and releases of natural gas, and thereby protect the safety of life, property, and the environment.

DATES: This rule is effective March 7, 2014.

ADDRESSES: Documents mentioned in this preamble are part of docket [USCG-2013-0070]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Mr. Rusty Wright, U.S. Coast Guard, District Eight Waterways Management Branch; telephone 504-671-2138, rusty.h.wright@uscg.mil. If you have questions on viewing or submitting material to the docket, call Cheryl Collins, Program Manager, Docket Operations, telephone (202) 366-9826.

SUPPLEMENTARY INFORMATION:

Table of Acronyms

DHS Department of Homeland Security

USCG United States Coast Guard

FR Federal Register

NPRM Notice of Proposed Rulemaking

OCS Outer Continental Shelf

A. Regulatory History and Information

On July 18, 2013, the Coast Guard published an NPRM entitled, “Safety Zone; Olympus Tension Leg Platform on the Outer Continental Shelf Platform in the Gulf of Mexico” in the Federal Register [78 FR 42902] and requested comments on the proposed rule. The Coast Guard received no comments, no public meetings were requested and none were held.

B. Basis and Purpose

Coast Guard regulations permit the establishment of safety zones for facilities located on the OCS for the purpose of protecting life, property and the marine environment (33 CFR 147.1). Placing a safety zone around the facility will significantly reduce the threat of allisions, oil spills, and releases of natural gas, and thereby protect the safety of life, property, and the environment. The authority for this rule is 14 U.S.C. 85, 43 U.S.C. 1333, and Department of Homeland Security Delegation No. 0170.1.

Shell Exploration and Production Company requested that the Coast Guard establish a safety zone around the Olympus Tension Leg Platform facility. The request for the safety zone was made due to safety concerns for vessels operating in the area and the environment. Shell Exploration and Production Company indicated that it is highly likely that any allision with the facility would result in a catastrophic event. In evaluating this request, the Coast Guard explored relevant safety factors and considered several criteria, including but not limited to, (1) the level of shipping activity around the facility, (2) safety concerns for personnel aboard vessels operating in the area and onboard the facility, (3) concerns for the environment, (4) the possibility that an allision would result in a catastrophic event based on proximity to shipping fairways, offloading operations, production levels, and size of the crew, (5) the volume of traffic in the vicinity of the safety zone area, (6) the types of vessels navigating in the vicinity of the safety zone area, and (7) the structural configuration of the facility.

The safety zone established by this rulemaking is in the deepwater area of the Gulf of Mexico, located at 28° 9′35.59′ N, 89°14′20.86″ W in Mississippi Canyon Block 807. For the purposes of this regulation, the deepwater area is considered to be waters of 304.8 meters (1,000 feet) or greater depth extending to the limits of the Exclusive Economic Zone (EEZ), which is contiguous to the territorial sea of the United States, and extends up to 200 nautical miles from the baseline from which the breadth of the territorial sea is measured. Navigation in the area of the safety zone consists of large commercial shipping vessels, fishing vessels, cruise ships, tugs with tows and the occasional recreational vessel. The deepwater area also includes an extensive system of fairways.

C. Discussion of Comments and Changes

The Coast Guard received no comments in response to the NPRM and there are no changes to the safety zone regulation as proposed by the NPRM. One technical amendment is being made in this final rule to correct the section number. The section number is changed from § 147.848 to § 147.849 to be consistent with the numbering of OCS safety zones in the Coast Guard's Eighth District.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This rule is not a significant regulatory action due to the location of the Olympus Tension Leg Platform on the OCS and its distance from both land and safety fairways. Vessels traversing waters near the safety zone will be able to safely travel around the zone without incurring additional costs.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities. This rule will affect the following entities, some of which may be small entities: The owners or operators of vessels intending to transit or anchor in Mississippi Canyon Block 807. This safety zone will not have a significant economic impact on a substantial number of small entities for the following reasons: (1) This rule will enforce a safety zone around a production platform that is in an area of the Gulf of Mexico not typically frequented by vessel traffic; (2) this rule will enforce a safety zone that is not in close proximity to a safety fairway; and (3) vessel traffic can pass safely around the safety zone without incurring additional costs.

3. Collection of Information

This rule will not call for a new collection of information under the Paperwork Reduction Act of 1995 (44 U.S.C. 3501-3520).

4. Federalism

A rule has implications for federalism under Executive Order 13132, Federalism, if it has a substantial direct effect on the States, on the relationship between the national government and the States, or on the distribution of power and responsibilities among the various levels of government. We have analyzed this rule under that Order and determined that this rule does not have implications for federalism.

5. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

6. Taking of Private Property

This rule will not cause a taking of private property or otherwise have taking implications under Executive Order 12630, Governmental Actions and Interference with Constitutionally Protected Property Rights.

7. Civil Justice Reform

This rule meets applicable standards in sections 3(a) and 3(b)(2) of Executive Order 12988, Civil Justice Reform, to minimize litigation, eliminate ambiguity, and reduce burden.

8. Protection of Children

We have analyzed this rule under Executive Order 13045, Protection of Children from Environmental Health Risks and Safety Risks. This rule is not an economically significant rule and does not create an environmental risk to health or risk to safety that may disproportionately affect children.

9. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

10. Energy Effects

This action is not a “significant energy action” under Executive Order 13211, Actions Concerning Regulations That Significantly Affect Energy Supply, Distribution, or Use.

11. Technical Standards

This rule does not use technical standards. Therefore, we did not consider the use of voluntary consensus standards.

12. Environment

We have analyzed this rule under Department of Homeland Security Management Directive 023-01 and Commandant Instruction M16475.lD, which guide the Coast Guard in complying with the National Environmental Policy Act of 1969 (NEPA)(42 U.S.C. 4321-4370f), and have determined that this action is one of a category of actions that do not individually or cumulatively have a significant effect on the human environment. Safety zones are established around OCS facilities being constructed, maintained, or operated on the OCS to promote the safety of life and property on the facilities, their appurtenances and attending vessels, and on the adjacent waters within the safety zones. A safety zone may extend to a maximum distance of 500 meters around the OCS facility measured from each point on its outer edge or from its construction site, but may not interfere with the use of recognized sea lanes essential to navigation. This rule is categorically excluded from further review under paragraph 34(g) of Figure 2-1 of the Commandant Instruction. An environmental analysis checklist supporting this determination and a Categorical Exclusion Determination are available in the docket where indicated under ADDRESSES.

List of Subjects in 33 CFR Part 147

Continental shelf, Marine safety, Navigation (water).

For the reasons discussed in the preamble, the Coast Guard amends 33 CFR part 147 as follows:

PART 147—SAFETY ZONES

1. The authority citation for part 147 continues to read as follows:

Authority: 14 U.S.C. 85; 43 U.S.C. 1333; Department of Homeland Security Delegation No. 0170.1.

2. Add § 147.849 to read as follows:

§ 147.849 Safety Zone; Olympus Tension Leg Platform.

(a) Description. The Olympus Tension Leg Platform is in the deepwater area of the Gulf of Mexico in Mississippi Canyon Block 807B. The facility is located at 28° 9′35.59″ N, 89°14′20.86″ W. The area within 500 meters (1640.4 feet) from each point on the structure's outer edge and the area within 500 meters (1640.4 feet) of each of the supply boat mooring buoys is a safety zone.

(b) Regulation. No vessel may enter or remain in this safety zone except the following:

(1) An attending vessel;

(2) A vessel under 100 feet in length overall not engaged in towing; or

(3) A vessel authorized by the Commander, Eighth Coast Guard District or a designated representative.

Dated: January 10, 2014.
Kevin S. Cook,
Rear Admiral, U.S. Coast Guard, Commander, Eighth Coast Guard District.

[FR Doc. 2014-02441 Filed 2-4-14; 8:45 am]

BILLING CODE 9110-04-P